DEPARTMENT OF STATE

[Public Notice: 12472]

Notice of Public Meeting

As required by the Federal Advisory Committee Act, Public Law 92-463, the Department of State gives notice of a meeting of the Advisory Committee on International Postal and Delivery Services. This Committee will meet virtually on Thursday, September 12, 2024, from 1:00 p.m. to 3:30 p.m. Eastern Time, hosted on the Zoom for Government platform.

Members of the public interested attending the meeting should contact the Committee's Designated Federal Officer by email by Friday, September 6, 2024, to be placed on the mailing list of recipients for the meeting's Zoom link. That contact information is provided in the further information section below.

Members of the public interested in providing input to the meeting should likewise contact the Designated Federal Officer. Individuals wishing to provide oral input are requested to limit their comments to five minutes. Requests to be added to the speakers list must be received in writing (by email) prior to the close of business on Friday, September 6, 2024; written comments from members of the public for distribution at this meeting must reach the Designated Federal Officer by email on this same date. Requests received after that date, including any requests for reasonable accommodation, will be considered but might not be able to be fulfilled.

The agenda of the meeting will include discussion of ongoing work in the Universal Postal Union (UPU), including proposals that are being developed for the UPU's regular Congress in Dubai in September 2025.

FOR FURTHER INFORMATION CONTACT: Please contact the Designated Federal Officer, Mr. Stuart Smith, Chief for International Postal Affairs in the Office of Specialized and Technical Agencies (IO/STA), Bureau of International Organization Affairs, U.S. Department of State, by email at SmithSM7@state.gov.

Stuart M. Smith,
Designated Federal Officer, Advisory Committee on International Postal and Delivery Services, Office of Specialized and Technical Agencies, Bureau of International Organization Affairs, Department of State.

[FR Doc. 2024-16631 Filed 7-26-24; 8:45 am]

BILLING CODE 4710-19-P